COMMODITY CREDIT CORPORATION

Sunshine Act Meeting

Time and date: 3 p.m., May 15, 2003.

Place: Room 104-A, Jamie Whitten Building, U.S. Department of Agriculture, Washington, DC.

Status: Open.

Matters to be considered: 1. Approval of the Minutes of the Special Open meeting of May 17, 1999.

2. Memorandum re: Update of Commodity Credit Corporation (CCC)—Owned Inventory.

3. Memorandum re: Commodity Credit Corporation Financial Condition Report.

4. Memorandum re: Commodity Credit Corporation Stocks Available for Donation Overseas Under Section 416(b) of the Agricultural Act of 1949, as Amended, for Fiscal Years 1998 through 2003.

5. Docket A-POL-98-007, Revision. 1, re: Commodity Credit Corporation Claims Policy.

6. Briefing re: Status of the Specialty Crop Grant Program, Agricultural Economic Assistance Act (Pub. L. 107-25), which involves authorized Commodity Credit Corporation funding of $169 million to states.

FOR FURTHER INFORMATION CONTACT: Monique B. Randolph, Assistant Secretary, Commodity Credit Corporation, Stop 0571, U.S. Department of Agriculture, 1400 Independence Avenue SW., Washington, DC 20250-0571.

Dated: May 8, 2003.
Thomas B. Hofeller,
Secretary, Commodity Credit Corporation.

[FR Doc. 03-11949 Filed 5-8-03; 3:55 pm]

BILLING CODE 3410-05-P